DEPARTMENT OF THE INTERIOR

Bureau of Land Management

[LLWYD04000-2013-LL13110000-EJ0000]

Notice of Intent To Prepare an Environmental Impact Statement for the Bird Canyon Natural Gas Infill Project, Lincoln and Sublette Counties, WY

AGENCY: Bureau of Land Management, Interior.

ACTION: Notice of Intent.

SUMMARY: In compliance with the National Environmental Policy Act (NEPA) of 1969, as amended, and the Federal Land Policy and Management Act of 1976, as amended, the Bureau of Land Management (BLM) Rock Springs Field Office (RSFO) intends to prepare an environmental impact statement (EIS) for the Bird Canyon Natural Gas Infill Project and by this notice announces the opening of the scoping period. The plan of development for this project proposes that 348 natural gas wells be drilled on public lands in the 17,612 acre Bird Canyon project area.

DATES: Comments must be received by June 9, 2014. The BLM will hold two public meetings as part of the public comment period; these will be announced through the local news media and the BLM Web site at www.blm.gov/wy/st/en/info/NEPA/documents/rsfo/birdcanyon.html at least 15 days in advance. In order to be included in the analysis, all comments must be received prior to the close of the 30-day scoping period or 15 days after the last public meeting, whichever is later. The BLM will provide additional opportunities for public participation as appropriate.

ADDRESSES: Written comments on issues and planning criteria may be submitted through any of the following methods:

• Mail or Delivery: BLM Rock Springs Field Office, Attn: Spencer Allred, 280 Highway 191 N., Rock Springs, WY 82901.

• EMail: blm_wy_bird_canyon_eis@blm.gov with “Public Comment” in the subject line.

• Fax: 307-352-0329.

All comments must include a legible full name and address on the envelope, letter, fax, postcard or email.

Documents pertinent to this proposal may be examined at the RSFO, 280 Highway 191 N., Rock Springs, Wyoming.

FOR FURTHER INFORMATION CONTACT: Spencer Allred, Natural Resource Specialist, at 307-352-0325. Persons who use a telecommunications device for the deaf may call the Federal Information Relay Service (FIRS) at 1-800-877-8339 to contact the above individual during normal business hours. The FIRS is available 24 hours a day, 7 days a week, to leave a message or question with the above individual. You will receive a reply during normal business hours.

SUPPLEMENTARY INFORMATION: Koch Exploration Company, LLC, and Memorial Resource Development, LLC, propose to drill 348 new natural gas wells within 17,612 acres of public land in the existing Bird Canyon Field, in Lincoln and Sublette counties, Wyoming. Drilling activities would occur over the next 10 to 20 years. The life of the project, including final reclamation, is projected to be approximately 55 years. The wells would be directionally drilled on expansions of existing well pads or on newly constructed multiple-well pads. Average well-pad spacing would be four pads per 640 acres. It is estimated that well pads would initially occupy 3.8 acres, which would then be reclaimed back to 1.1 acres after production facilities are installed. Total estimated initial disturbance for this project, including access roads, well pads and pipelines, is 392 acres. Following interim reclamation, including reclamation of 64 existing pads, total estimated long-term surface disturbance is 20 acres.

The proposed project is in an area designated as marginal nonattainment for ozone within the Upper Green River Basin by the Environmental Protection Agency (EPA) in July 2012.

Oil and gas development has occurred in the Bird Canyon Field since the 1960s. During that time, 90 wells have been drilled within the project area. Eighteen of those wells have been plugged or shut-in, leaving 72 wells in the field that are actively producing at this time.

An EIS will be prepared to analyze the impacts of the proposed project which the RSFO has preliminarily identified as socioeconomics, viewshed qualities, historical and cultural resources, wildlife habitat, air quality, water quality and livestock forage. Identification of opportunities to apply mitigation hierarchy strategies for on-site, regional, and compensatory mitigation, and (appropriate to the size of the project) landscape-level conservation and management actions to achieve resource objectives] will be considered.

A critical part of the EIS process is gathering comments and concerns from the public to help the BLM understand the scope of the issues associated with this project. The BLM will utilize and coordinate the NEPA public comment process to comply with section 106 of the National Historic Preservation Act (16 U.S.C. 470f) as provided for in 36 CFR 800.2(d)(3). Native American tribal consultations will be conducted in accordance with BLM policy and sites of religious or cultural significance or other tribal concerns will be given due consideration. Federal, State and local agencies, along with tribes and other stakeholders that may be interested in or affected by the proposed project, may request or be requested by the BLM to participate in the development of the EIS as a cooperating agency. Additional opportunities for public participation will be provided when the Draft EIS is published.

Comments can be submitted in writing to the BLM at any public scoping meeting or through one of the methods listed in the ADDRESSES section. Before including your address, phone number, email address, or other personal identifying information in your comment, you should be aware that your entire comment—including your personal identifying information—may be made publicly available at any time. While you may ask us in your comment to withhold your personal identifying information from public review, we cannot guarantee that we will be able to do so.

Authority: 40 CFR 1501.7.

Larry Claypool,
Acting State Director.

[FR Doc. 2014-10489 Filed 5-8-14; 8:45 am]

BILLING CODE 4310-22-P